DEPARTMENT OF VETERANS AFFAIRS

Enhanced-Use Lease Development of Property at the Mound City National Cemetery, Mound City, IL

AGENCY: Department of Veterans Affairs.

ACTION: Notice of intent to designate.

SUMMARY: The Secretary of the Department of Veterans Affairs (VA) is designating the Mound City National Cemetery, Mound City, IL, for an enhanced-use leasing development. The Department intends to enter into a long-term lease of real property with the Mound City National Cemetery Preservation Commission who will finance, develop, maintain, and manage two buildings that total 1,900 square feet on a ½-acre Mound City National Cemetery site at no cost to VA.

FOR FURTHER INFORMATION CONTACT: Malinda Pugh, Office of Asset Enterprise Management (004B2), Department of Veterans Affairs, 810 Vermont Avenue, NW., Washington, DC 20420, (202) 273-8192.

SUPPLEMENTARY INFORMATION: 38 U.S.C. 8161 et seq. specifically provides that the Secretary may enter into an enhanced-use lease, if the Secretary determines that at least part of the use of the property under the lease will be to provide appropriate space for an activity contributing to the mission of the Department and that the lease will enhance the property. This project meets these requirements.

Approved: March 4, 2003.
Anthony J. Principi,
Secretary of Veterans Affairs.

[FR Doc. 03-5670 Filed 3-10-03; 8:45 am]

BILLING CODE 8320-01-M